DEPARTMENT OF TRANSPORTATION

Pipeline and Hazardous Materials Safety Administration

[Docket No. PHMSA-2017-0037; Notice No. 2017-02]

International Standards on the Transport of Dangerous Goods

AGENCY: Pipeline and Hazardous Materials Safety Administration (PHMSA), U.S. Department of Transportation (DOT).

ACTION: Notice of comment solicitation.

SUMMARY: PHMSA requests comments on issues being considered during the 51st and 52nd sessions of the United Nations Sub-Committee of Experts on the Transport of Dangerous Goods (UNSCOE TDG).

DATES: Comments must be received by November 17, 2017.

ADDRESSES: You may submit comments identified by the docket number (PHMSA-2017-0037) by any of the following methods:

• Federal eRulemaking Portal: Go to http://www.regulations.gov. Follow the online instructions for submitting comments.

• Fax: 1-202-493-2251.

• Mail: Docket Operations, U.S. Department of Transportation, West Building, Ground Floor, Room W12-140, Routing Symbol M-30, 1200 New Jersey Avenue SE., Washington, DC 20590.

• Hand Delivery: To Docket Operations, Room W12-140 on the ground floor of the West Building, 1200 New Jersey Avenue SE., Washington, DC 20590, between 9 a.m. and 5 p.m., Monday through Friday, except Federal Holidays.

Instructions: All submissions must include the agency name and docket number for this notice at the beginning of the comment. Note that all comments received will be posted without change to the docket management system, including any personal information provided.

Docket: For access to the dockets to read background documents or comments received, go to http://www.regulations.gov, or DOT's Docket Operations Office (see ADDRESSES).

FOR FURTHER INFORMATION CONTACT: Mr. Steven Webb or Mr. Aaron Wiener, Office of Hazardous Materials Safety, U.S. Department of Transportation, Washington, DC 20590, (202) 366-8553.

Privacy Act: Anyone is able to search the electronic form of any written communications and comments received into any of our dockets by the name of the individual submitting the document (or signing the document, if submitted on behalf of an association, business, labor union, etc). You may review DOT's complete Privacy Act Statement in the Federal Register published on April 11, 2000 (65 FR 19477) or you may visit http://www.regulations.gov.

SUPPLEMENTARY INFORMATION: The 51st session of the UNSCOE TDG was held in Geneva, Switzerland from July 3 to 7, 2017. The 52nd session will be held November 27 to December 6, 2017, also in Geneva. These are the first and second of four meetings scheduled for the 2017-2018 biennium. The UNSCOE TDG will consider amendments to the 20th Revised Edition of the United Nations Recommendations on the Transport of Dangerous Goods Model Regulations (Model Regulations), and the 6th Revised Edition of the United Nations Manual of Tests and Criteria which may be implemented into relevant domestic, regional, and international regulations after January 1, 2021. Accordingly, PHMSA is soliciting input from interested persons for use in developing U.S. comments on issues to be considered by the UNSCOE TDG. Copies of working documents, informal documents, and the meeting agenda may be obtained from the United Nations (UN) Transport Division's Web site at http://www.unece.org/trans/main/dgdb/dgsubc3/c32017.html.

Topics on the agenda for the UNSCOE TDG meeting include:

• Explosives and related matters;

• Listing, classification, and packing;

• Electric storage systems;

• Transport of gases;

• Miscellaneous proposals for amendments to the Model Regulations on the Transport of Dangerous Goods;

• Global harmonization of the Transport of Dangerous Goods Regulations with the Model Regulations;

• Cooperation with the International Atomic Energy Agency;

• Guiding principles for the Model Regulations; and

• Issues relating to the Globally Harmonized System of Classification and Labelling of Chemicals (GHS).

Following the 51st and 52nd sessions of the UNSCOE TDG, a copy of the Sub-Committee's report for each session will be available at the UN Transport Division's Web site at http://www.unece.org/trans/main/dgdb/dgsubc3/c3rep.html. PHMSA's Web site at http://www.phmsa.dot.gov/hazmat/regs/international provides additional information regarding the UNSCOE TDG and related matters.

Signed at Washington, DC, on July 21, 2017.
William S. Schoonover,
Associate Administrator for Hazardous Materials Safety, Pipeline and Hazardous Materials Safety Administration.

[FR Doc. 2017-15719 Filed 7-25-17; 8:45 am]

BILLING CODE 4910-60-P